DEPARTMENT OF COMMERCE

National Oceanic and Atmospheric Administration

[RTID 0648-XA536]

South Atlantic Fishery Management Council; Public Meetings

AGENCY: National Marine Fisheries Service (NMFS), National Oceanic and Atmospheric Administration (NOAA), Commerce.

ACTION: Notice of a public meeting.

SUMMARY: The South Atlantic Fishery Management Council (Council) will hold a meeting of Wreckfish Individual Transferable Quota (ITQ) Shareholders and Wholesale Dealers.

DATES: The meeting will be held via webinar on October 26, 2020, from 1:30 p.m. until 4 p.m.

ADDRESSES:

Council address: South Atlantic Fishery Management Council, 4055 Faber Place Drive, Suite 201, N Charleston, SC 29405.

Meeting address: The meeting will be held via webinar. The webinar is open to members of the public. Registration is required. Webinar registration and briefing book materials will be available two weeks prior to the meeting at: http://safmc.net/safmc-meetings/current-advisory-panel-meetings/. Public comment will also be allowed as part of the meeting agenda.

FOR FURTHER INFORMATION CONTACT: Dr. Brian Cheuvront, Deputy Executive Director for Management, SAFMC, phone: (843) 302-8442; email: brian.cheuvront@safmc.net.

SUPPLEMENTARY INFORMATION: The Wreckfish Shareholders and Wholesale Dealers will meet jointly via webinar. Agenda items include:

1. A review of potential actions being considered by the Council resulting from the 2019 Wreckfish ITQ Program review;

2. An update on timing of Snapper Grouper Amendment 48 development; and

3. Discussion of actions to include in Snapper Grouper Amendment 48 and recommendations for Council consideration.

Special Accommodations

These meetings are physically accessible to people with disabilities. Requests for auxiliary aids should be directed to the Council office (see ADDRESSES) 5 days prior to the meeting.

Note: The times and sequence specified in this agenda are subject to change.

Authority: 16 U.S.C. 1801 et seq.

Dated: October 2, 2020.
Diane M. DeJames-Daly,
Acting Deputy Director, Office of Sustainable Fisheries, National Marine Fisheries Service.

[FR Doc. 2020-22155 Filed 10-6-20; 8:45 am]

BILLING CODE 3510-22-P